DEPARTMENT OF TRANSPORTATION

Office of the Secretary

[Docket No. DOT-OST-2025-1326]

Protecting America's Supply Chain From Cargo Theft—Request for Information

ACTION: Request for information (RFI).

SUMMARY: Cargo theft is a growing concern for the U.S. transportation system, costing the economy billions annually. These crimes involve opportunistic “straight thefts” of trailers, containers, and loads at truck stops or multimodal distribution hubs and highly coordinated operations conducted by organized criminal networks. Both categories create significant economic losses, disrupt supply chains, and in some cases fund broader illicit activities such as narcotics trafficking, counterfeiting, and human smuggling. DOT seeks information from State, metropolitan, and local agencies; law enforcement; industry; stakeholders (e.g., carriers, shippers, drivers, warehouse operators (including at airports), insurers); and the public to aid in the development of strategies and potential programs to reduce cargo theft, strengthen supply chain security, and create a safe operating environment for freight stakeholders and the traveling public.

DATES: Comments must be received on or before October 20, 2025. DOT will consider comments filed after this date to the extent practicable.

ADDRESSES: You may submit comments identified by DOT Docket Number DOT-OST-2025-1326 by any of the following methods:

• Electronic Submission: Go to http://www.regulations.gov. Search by using the docket number (provided above). Follow the instructions for submitting comments on the electronic docket site.

• Mail: Docket Management Facility; U.S. Department of Transportation, 1200 New Jersey Avenue SE, Room PL-401, Washington, DC 20590-0001.

• Hand Delivery: Room PL-401 of the Department of Transportation, 1200 New Jersey Avenue SE, Washington, DC, between 9 a.m. and 5 p.m., Monday through Friday, except Federal Holidays.

Instructions: All submissions must include the agency name and docket numbers.

Note: All comments received, including any personal information, will be posted without change to the docket and is accessible via http://www.regulations.gov. Input submitted online via www.regulations.gov is not immediately posted to the site. It may take several business days before your submission is posted.

FOR FURTHER INFORMATION CONTACT: Paul Baumer, Deputy Director for Infrastructure Development, Office of Multimodal Freight Infrastructure and Policy, at Paul.Baumer@dot.gov.

SUPPLEMENTARY INFORMATION:

Background

The safe and efficient movement of freight is critical to the Nation's economy and national security. Cargo theft undermines our economic strength and security by contributing to supply chain disruptions, driving up costs for businesses and consumers, and eroding confidence in freight transportation, including degrading trust among international trading partners. These risks occur across all modes of freight, including highways, rail, air, and maritime supply chains. Cargo theft at marine terminals and during vessel-truck-rail transfers present a particular challenge due to the high volumes and values of goods moving through U.S. ports.

Categories of incidents include:

• Straight thefts—e.g., stolen trailers, pilfered containers or theft of parked trucks at truck stops, marine terminals and distribution centers.

• Strategic theft networks—e.g., fraudulent carriers, staged diversions, cyber-enabled thefts, and insider collusion.

Although law enforcement agencies and industry stakeholders track incidents, reporting is fragmented and inconsistent, and national-level visibility is limited. DOT is uniquely positioned to improve coordination across modes, support data collection, and strengthen resilience by working with law enforcement, industry, industry and Federal partners. In the maritime domain, DOT's role necessarily intersects with the Department of Homeland Security and the U.S. Coast Guard (USCG), which hold primary statutory responsibilities for port and vessel security. Clear delineation of responsibilities between MARAD, USCG, and DHS is critical to avoid jurisdictional confusion in addressing cargo theft at ports and along maritime supply chains.

This RFI supports DOT's broader role in protecting supply chain resilience, reducing crime, and promoting economic strength and global competitiveness, aligning with Administration priorities.

DOT invites comment and data from stakeholders on the following:

General (All Stakeholders):

1. What are the most significant cargo theft risks facing the U.S. supply chain today (e.g., opportunistic thefts, organized theft rings, insider threats, cyber-enabled diversion)?

2. How do these risks vary across different types of goods movement: truck borne freight, rail borne freight, water borne freight, air borne freight, and freight located at multimodal exchange points, including airports, marine ports, and truck-rail intermodal facilities?

3. For each of the following modes of transportation, please indicate how much of a challenge cargo theft is for shippers and carriers.

Select one rating per mode. If you do not have an opinion, select N/A. assign a 1-5 rating indicating how much cargo theft is a challenge impacting the shippers and carriers within that mode, using the following scale:

(5) Very Serious | (4) Serious | (3) Moderate | (2) Minor | (1) No Challenge | (N/A) No Opinion

Mode | 5 (Very Serious) | 4 | 3 | 2 | 1 (No Challenge) | N/A
Air | ☐ | ☐ | ☐ | ☐ | ☐ | ☐
Rail | ☐ | ☐ | ☐ | ☐ | ☐ | ☐
Marine | ☐ | ☐ | ☐ | ☐ | ☐ | ☐
Trucking | ☐ | ☐ | ☐ | ☐ | ☐ | ☐

4. What barriers prevent timely detection, reporting, and response to cargo theft incidents? How can DOT reduce these barriers?

Law Enforcement/Security:

5. How can Federal, State, and local law enforcement better coordinate to address both opportunistic thefts and multi-jurisdictional organized cargo theft cases?

6. What role should Federal intelligence functions play in identifying and mitigating theft risks across this spectrum?

DOT Operating Administrations/Federal Agencies:

7. How should DOT Operating Administrations (FMCSA, FHWA, FRA, MARAD, FAA, and PHMSA) contribute to addressing cargo theft while avoiding duplication of FBI/DHS roles?

8. What data collection improvements (e.g., reporting platforms, integrations with FMCSA inspections or CBP data) should DOT pursue to enhance cargo theft visibility?

9. Are there regulations that cause or contribute to vulnerabilities that lead to cargo theft?

Industry Stakeholders:

10. What industry best practices or technologies (e.g., GPS tracking, electronic seals, AI-driven monitoring, secure parking, etc.) have proven most effective in reducing both opportunistic thefts and organized thefts?

11. How should DOT measure success in reducing cargo theft, and what performance metrics would be most valuable to track?

12. To what agency or jurisdiction does industry currently report cargo theft? What barriers prevent industry from reporting theft incidents to Federal agencies? How can DOT reduce these barriers?

13. Which commodities face the highest risks and do those risks vary contingent on whether the commodity is domestic, imported, or exported?

Forward-Looking:

14. What potential practices, technologies, or focal points for investigation could DOT initiate over the next year to test innovative approaches to cargo theft prevention, reporting, and enforcement partnerships?

Next Steps

DOT will review responses to this RFI and may use them to:

• Coordinate with law enforcement and regulatory partners to identify and close loopholes that allow carriers or transporters removed from service to re-enter operations under different names or affiliations.

• Improve cargo security risk assessment methodologies and strengthen decision support capabilities by leveraging data shared through existing Federal, State, and industry partnerships.

• Enhance interagency coordination amongst DOT, DHS, FBI, CBP, and State/local partners.

• Guide DOT in formatting an appropriate response, including the design of future initiatives in partnership with industry and law enforcement.

Public Comment

Comments may be submitted and viewed at Docket Number DOT-OST- 2025-1326. Comments must be received on or before October 20, 2025 to receive full consideration by DOT. After October 20, 2025, comments will continue to be available for viewing by the public.

Signed in Washington, DC on September 16, 2025.
Cathy Gautreaux,
Deputy Assistant Secretary for Multimodal Freight Infrastructure and Policy.

[FR Doc. 2025-18159 Filed 9-18-25; 8:45 am]

BILLING CODE P